DEPARTMENT OF DEFENSE

Department of the Army

Privacy Act of 1974; System of Records

AGENCY: Department of the Army, DoD.

ACTION: Notice to amend systems of records.

SUMMARY: The Department of the Army is proposing to amend seven systems of records notices in its existing inventory of records systems subject to the Privacy Act of 1974, (5 U.S.C. 552a), as amended. The administrative amendments being made to the notices reflect the Department of the Army's General Order No. 7, whereby the ‘U.S. Total Army Personnel Command of Alexandria, VA.’ and the ‘U.S. Army Reserve Personnel Command of St Louis, MO.’ were inactivated, and replaced with the ‘U.S. Army Human Resources Command’. General Order No. 7 became effective October 2, 2003.

DATES: This proposed action will be effective without further notice on September 17, 2004, unless comments are received which result in a contrary determination.

ADDRESSES: Department of the Army, Freedom of Information/Privacy Act Office, 7701 Telegraph Road, Alexandria, VA 22315-3905.

FOR FURTHER INFORMATION CONTACT: Ms. Janice Thornton at (703) 428-6504.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974 (5 U.S.C. 552a), as amended, which requires the submission of a new or altered system report.

Dated: August 11, 2004.
L.M. Bynum,
Alternate OSD Federal Register Liaison Officer, Department of Defense.

A0600-8-104b TAPC

SYSTEM NAME:

Official Military Personnel Record (January 6, 2004, 69 FR 790).

Change

System identifier:

Delete entry and replace with ‘A0608-8-104b AHRC’.

* * * * *

A0600-8-104b AHRC

SYSTEM NAME:

Official Military Personnel Record.

SYSTEM LOCATION:

U.S. Army Human Resources Command, 200 Stovall Street, Alexandria, VA 22332-0400 for active Army officers.

U.S. Army Enlisted Records and Evaluation Center, 8899 East 56th Street, Fort Benjamin Harrison, IN 46249-5301 for active duty enlisted personnel.

U.S. Army Human Resources Command, 9700 Page Avenue, St Louis, MO 63132-5200 for reserve personnel.

National Personnel Records Center, National Archives and Records Administration, 9700 Page Avenue, St Louis, MO 63132-5100, for discharged or deceased personnel.

An automated index exists at the U.S. Army Human Resources Command showing physical location of the Official Military Personnel of retired, separated and files on all service members returned to active duty.

National Guard Bureau, Army National Guard Readiness Center, 111 South George Mason Drive, Arlington, VA 22204-1382, for commissioned, warrant officer or enlisted soldier in the Army National Guard.

Categories of individuals covered by the system:

Active duty members of the U.S. Army and Army National Guard not on active duty, who are enlisted, appointed, or commissioned status; members of the U.S. Army who were enlisted, appointed, or commissioned and were separated by discharge, death, or other termination of military status.

Categories of records in the system:

Records include enlistment contract; Department of Veterans Affairs benefit forms; physical evaluation board proceedings; military occupational specialty data; statement of service; qualification record; group life insurance election; emergency data; application for appointment; qualification/evaluation report; oath of office; medical examination; security clearance questionnaire; application/memo for retired pay; application for correction of military records; field/application for active duty; transfer or discharge report/Certificate of Release or Discharge from Active Duty; active duty report; voluntary reduction; line of duty and misconduct determinations; discharge or separation reviews; police record checks, consent/declaration of parent/guardian; Army Reserve Officers Training Corps supplemental agreement; award recommendations; academic reports; line of duty casualty report; U.S. field medical card; retirement points, deferment; pre-induction processing and commissioning data; transcripts of military records; summary sheets review of conscientious objector; election of options; oath of enlistment; enlistment extensions; survivor benefit plans; efficiency reports; records of proceeding, 10 U.S.C. section 815 appellate actions; determinations of moral eligibility; waiver of disqualifications; temporary disability record; change of name; statements for enlistment; acknowledgments of service requirements; retired benefits; application for review by physical evaluation board and disability board; appointments; designations; evaluations; birth certificates; photographs; citizenship statements and status; educational constructive credit transcripts; flight status board reviews; assignment agreements, limitations/waivers/election and travel; efficiency appeals; promotion/reduction/recommendations, approvals/declinations announcements/notifications, reconsiderations/worksheets elections/letters or memoranda of notification to deferred officers and promotion passover notifications; absence without leave and desertion records; FBI reports; Social Security Administration correspondence; miscellaneous correspondence, documents, and military orders relating to military service including information pertaining to dependents, interservice action, in-service details, determinations, reliefs, component; awards, pay entitlement, released, transfers, and other military service data.

Authority for maintenance of the system:

10 U.S.C. 3013, Secretary of the Army; 42 U.S.C. 10606; DoD Instruction 1030.1, Victim and Witness Assistance; Army Regulation 600-8-104, Military Personnel Information Management/Records; and E.O. 9397 (SSN).

Purpose(s):

These records are created and maintained to manage the member's Army and Army National Guard service effectively, to document historically a member's military service, and safeguard the rights of the member and the Army.

Routine use of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of State to issue passport/visa; to document persona-non-grata status, attaché assignments, and related administration of personnel assigned and performing duty with the Department of State.

To the Department of Treasury to issue bonds; to collect and record income taxes.

To the Department of Justice to file fingerprints to perform investigative and judicial functions.

To the Department of Agriculture to coordinate matters related to its advanced education program.

To the Department of Labor to accomplish actions required under Federal Employees Compensation Act.

To the Department of Health and Human Services to provide services authorized by medical, health, and related functions authorized by 10 U.S.C. 1074 through 1079.

To the Nuclear Regulatory Commission to accomplish requirements incident to Nuclear Accident/Incident Control Officer functions.

To the American Red Cross to accomplish coordination and service functions including blood donor programs and emergency investigative support and notifications.

To the Civil Aeronautics Board to accomplish flight qualifications, certification and licensing actions.

To the Federal Aviation Agency to determine rating and certification (including medical) of in-service aviators.

To the U.S. Postal Service to accomplish postal service authorization involving postal officers and mail clerk authorizations.

To the Department of Veterans Affairs:

1. To provide information relating to service, benefits, pensions, in-service loans, insurance, and appropriate hospital support.

2. To provide information relating to authorized research projects.

To the U.S. Citizenship and Immigration Service to comply with status relating to alien registration, and annual residence/location.

To the Office of the President of the United States of America to exchange required information relating to White House Fellows, regular Army promotions, aides, and related support functions staffed by Army members.

To the Federal Maritime Commission to obtain licenses for military members accredited as captain, mate, and harbormaster for duty as Transportation Corps warrant officer.

To each of the several states, and U.S. possessions to support state bonus application; to fulfill income tax requirements appropriate to the service member's home of record; to record name changes in state bureaus of vital statistics; and for National Guard affairs.

Civilian educational and training institutions to accomplish student registration, tuition support, graduate record examination tests, and related requirements incident to in-service education programs in compliance with 10 U.S.C. chapters 102 and 103.

To the Social Security Administration to obtain or verify Social Security Number, to transmit Federal Insurance Compensation Act deductions made from members' wages.

To the Department of Transportation to coordinate and exchange necessary information pertaining to inter-service relationships between U.S. Coast Guard (USCG), U.S. Army, and Army National Guard when service members perform duty with the USCG.

To the Civil authorities for compliance with 10 U.S.C. 814.

To the U.S. Information Agency to investigate applicants for sensitive positions pursuant to E.O. 10450.

To the Federal Emergency Management Agency to facilitate participation of Army members in civil defense planning training, and emergency operations pursuant to the military support of civil defense as prescribed by DoD Directive 3025.10, Military Support of Civil Defense, and Army Regulation 500-70, Military Support of Civil Defense.

To the Director of Selective Service System to Report of Non-registration at Time of Separation Processing, of individuals who decline to register with Selective Service System. Such report will contain name of individual, date of birth, Social Security Number, and mailing address at time of separation.

Other elements of the Federal Government pursuant to their respective authority and responsibility.

Note: Record of the identity, diagnosis, prognosis, or treatment of any client/patient, irrespective of whether or when he/she ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974, in regard to accessibility of such records except to the individual to whom the record pertains. The DoD ‘Blanket Routine Uses’ set forth at the beginning of the Army's compilation of systems of records notices do not apply to these categories of records.

To victims and witnesses of a crime for purposes of providing information, consistent with the requirements of the Victim and Witness Assistance Program, regarding the investigation and disposition of an offense.

To Federal agencies, their contractors and grantees, and to private organizations, such as the National Academy of Sciences, for the purposes of conducting personnel and/or health-related research in the interest of the Federal government and the public. When not considered mandatory, the names and other identifying data will be eliminated from records used for such research studies.

The DoD ‘Blanket Routine Uses’ set forth at the beginning of the Army's compilation of systems of records notices also apply to this system, except for those specifically excluded categories of records.

Policies and practices for storing, retrieving, accessing, retaining, and disposing of records in the system:

Storage:

Paper records in file folders and on electronic storage media and fiche.

Retrievability:

By Social Security Number and name.

Safeguards:

Records are maintained in areas accessible only to authorized personnel; automated records are further protected by authorized password system for access terminals, controlled access to operations locations, and controlled output distribution.

Retention and disposal:

Microfiche and paper records are permanent. They are retained in active file until termination of service, following which they are retired to the U.S. Army Human Resources Command, 1 Reserve Way, St. Louis, MO 63132-5200.

System manager(s) and address:

Commander, U.S. Army Human Resources Command, 200 Stovall Street, Alexandria, VA 22332-0400.

Director, National Guard Bureau, Army National Guard Readiness Center, 111 South George Mason Drive, Arlington, VA 22204-1382.

Commander, U.S. Army Human Resources Command, 1 Reserve Way, St. Louis, MO 63132-5200.

Notification procedure:

Individuals seeking to determine if information about themselves is contained in this record system should address written inquiries to the following:

Inquiries for records of commissioned or warrant officers (including members of Reserve Components) serving on active duty should be sent to the Commander, U.S. Army Human Resources Command, 200 Stovall Street, Alexandria, VA 22332-0400.

Inquiries for records of enlisted members (including members of Reserve Components) serving on active duty should be sent to: Commander, U.S. Army Enlisted Records and Evaluation Center, 8899 East 56th Street, Fort Benjamin Harrison, IN 46249-5301.

Inquiries for records of commissioned officers or warrant officers in a reserve status not on active duty, or Army enlisted reservists not on active duty, or members of the National Guard who performed active duty, or commissioned officers, warrant officers, or enlisted members in a retired status should be sent to the Commander, U.S. Army Human Resources Command, 1 Reserve Way, St. Louis, MO 63132-5200.

Inquiries for records of commissioned officers and warrant officers who were completely separated from the service after June 30, 1917, or enlisted members who were completely separated after October 31, 1912, or for records of deceased Army personnel should be sent to the Chief, National Personnel Records Command, National Archives and Records Administration, 9700 Page Avenue, St. Louis, MO 63132-5200.

Inquiries for records of National Guard should be sent to the Director, National Guard Bureau, Army National Guard Readiness Center, 111 South George Mason Drive, Arlington, VA 22204-1382.

Individual should provide the full name, Social Security Number, service identification number, military status, and current address.

Record access procedures:

Individuals seeking access to records about themselves contained in this record system should address written inquiries to the following:

Inquiries for records of commissioned or warrant officers (including members of Reserve Components) serving on active duty should be sent to the Commander, U.S. Army Human Resources Command, 200 Stovall Street, Alexandria, VA 22332-0400.

Inquiries for records of enlisted members (including members of Reserve Components) serving on active duty should be sent to: Commander, U.S. Army Enlisted Records and Evaluation Center, 8899 East 56th Street, Fort Benjamin Harrison, IN 46249-5301.

Inquiries for records of commissioned officers or warrant officers in a reserve status not on active duty, or Army enlisted reservists not on active duty, or members of the National Guard who performed active duty, or commissioned officers, warrant officers, or enlisted members in a retired status should be sent to the Commander, U.S. Army Human Resources Command, 1 Reserve Way, St. Louis, MO 63132-5200.

Inquiries for records of commissioned officers and warrant officers who were completely separated from the service after June 30, 1917, or enlisted members who were completely separated after October 31, 1912, or for records of deceased Army personnel should be sent to the Chief, National Personnel Records Center, National Archives and Records Administration, 9700 Page Avenue, St. Louis, MO 63132-5200.

Inquiries for records of National Guard should be sent to the Director, National Guard Bureau, Army National Guard Readiness Center, 111 South George Mason Drive, Arlington, VA 22204-1382.

Individual should provide the full name, Social Security Number, service identification number, military status, and current address.

Contesting record procedures:

The Army's rules for accessing records, and for contesting contents and appealing initial agency determinations are contained in Army Regulation 340-21; 32 CFR part 505; or may be obtained from the system manager.

Record source categories:

From the individual, enlistment appointment or commission related forms pertaining to individual's military status; educational and financial institutions, training or qualifications records acquired prior to or during military services; law enforcement agencies, references provided by individuals, Army records reports, correspondence, forms, documents and other relevant papers, third parties and members of the public when information furnished relates to the service member's status.

Exemptions claimed for the system:

None.

A0614-200 TAPC

System name:

Classification and Reclassification of Soldiers (November 28, 2001, 66 FR 59410).

Change

System identifier:

Delete entry and replace with ‘A0614-200 AHRC’.

* * * * *

A0614-200 AHRC

System name:

Classification and Reclassification of Soldiers.

System location:

U.S. Army Human Resources Command, Reclassification Management Branch, 2461 Eisenhower Avenue, Alexandria, VA 22331-0400.

Categories of individuals covered by the system:

Active duty Army, Army National Guard and U.S. Army Reserve enlisted members on active duty.

Categories of records in the system:

File contains name, Social Security Number, grade, military occupational specialty (MOS), additional information substantiating the soldier's or Army's request for exception to or interpretation of regulatory guidance for the classification, reclassification or utilization of soldiers, Personnel Actions Request, Enlisted Records Brief, MOS and Medical retention board documents and other related documents.

Authority for maintenance of the system:

10 U.S.C. 3013, Secretary of the Army; Army Regulation 614-200, Enlisted Assignments and Utilization Management; and E.O. 9397 (SSN).

Purpose(s):

To perform the objective of maintaining a balance of authorization versus requirements by military occupational specialty within each career management field.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and electronic storage media.

Retrievability:

By individual's Social Security Number and surname.

Safeguards:

Records are accessed only by designated officials having official need therefore in the performance of official duties. Records are kept in file cabinets in locked rooms. Building housing records are protected by security guards.

Retention and disposal:

MOS classification board proceeding documents and related information maintain for 2 years then destroy.

System manager(s) and address:

Commander, U.S. Army Human Resources Command, Reclassification Management Branch, 2461 Eisenhower Avenue, Alexandria, VA 22331-0400.

Notification procedure:

Individuals seeking to determine if information about themselves is contained in this record system should address written inquiries to the Commander, U.S. Army Human Resources Command, Public Affairs Office, Freedom of Information Act and Privacy Act, 200 Stovall Street, Alexandria, VA 22332-0400.

Individual should provide the full name, Social Security Number, current address, and signature.

Record access procedures:

Individuals seeking access to records about themselves contained in this record system should address written inquiries to the Commander, U.S. Army Human Resources Command, Public Affairs Office, Freedom of Information Act and Privacy Act, 200 Stovall Street, Alexandria, VA 22332-0400

Individual should provide the full name, Social Security Number, current address, and signature.

Contesting record procedures:

The Army's rules for accessing records, and for contesting contents and appealing initial agency determinations are contained in Army Regulation 340-21; 32 CFR part 505; or may be obtained from the system manager.

Record source categories:

From the individual, Army personnel records and reports, and automated personnel systems.

Exemptions claimed for the system:

None.

A0621-1 TAPC

System name:

Civilian Schooling for Military Personnel (March 13, 2001, 66 FR 14558).

Change

System identifier:

Delete entry and replace with ‘A0621-1 AHRC’.

* * * * *

A0621-1 AHRC

System name:

Civilian Schooling for Military Personnel.

System location:

U.S. Army Human Resources Command, Chief, Civilian Education, 200 Stovall Street, Alexandria, VA 22332-0400. Segments exist at Army commands/installations, organizations/activities, including overseas areas. Official mailing addresses are published as an appendix to the Army's compilation of record systems notices.

Categories of individuals covered by the system:

Any Active Duty Army, Army National Guard and Army Reserve member who applies for or is selected for attendance at civilian school or for training with industry, or participation in a fellowship/scholarship program of training or instruction.

Categories of records in the system:

File contains Department of the Army Forms 1618-R, Application for Detail as Student Officer in a Civilian Educational Institution of Training with Industry Program; 2593-R, Application for Selection for Scientific and Engineering Graduate School; and 3719-R, Information Questionnaire for Recipients of Top Five Percent Army Fellowship (ROTC and U.S.MA), containing name, grade, Social Security Number, address, home phone, duty phone, permanent legal address, branch of service, date of birth, marital status, number of dependents, state of legal residence, military occupational specialties, enlistment status, component, foreign service, civilian educational data, military educational data, transcripts, social fraternities, honorary fraternities, clubs, degree major, class standing and personal resumes, school contracts; student training report; photographs; enlisted qualification record; theses; statements of service and schooling obligation; U.S. Armed Forces Institute test report; civilian institution academic evaluation reports, Standard Form 1034, Public Voucher for Purchases and Services Other Than Personal, similar relevant documents and correspondence.

Authority for maintenance of the system:

5 U.S.C. 301, Departmental Regulations; 10 U.S.C. 4301; and E.O. 9397 (SSN).

Purpose(s):

To document, monitor, manage, and administer the service member's attendance at a civilian training agency or civilian school.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders, microfilm and electronic storage media.

Retrievability:

By individual's name and Social Security Number.

Safeguards:

Records are maintained in areas accessible only to authorized personnel and only in the performance of assigned duties. Use of automated systems requires user identification and passwords granted to authorized personnel responsible for the administration and processing of individual student data.

Retention and disposal:

Destroyed by shredding after 2 years.

System manager(s) and address:

Commander, U.S. Army Human Resources Command, Chief, Civilian Education, 200 Stovall Street, Alexandria, VA 22332-0400.

Notification procedure:

Individuals seeking to determine if information about themselves is contained in this record system should address written inquiries to the Commander, U.S. Army Human Resources Command, 200 Stovall Street, Alexandria, VA 22332-0411.

Individual should provide the full name, Social Security Number, current address and telephone number, sufficient details concerning the civilian school attended to permit locating the record, and signature.

Record access procedures:

Individuals seeking access to records about themselves contained in this record system should address written inquiries to the Commander, U.S. Army Human Resources Command, 200 Stovall Street, Alexandria, VA 22332-0411.

Individual should provide the full name, Social Security Number, current address and telephone number, sufficient details concerning the civilian school attended to permit locating the record, and signature.

Contesting record procedures:

The Army's rules for accessing records, and for contesting contents and appealing initial agency determinations are contained in Army Regulation 340-21; 32 CFR part 505; or may be obtained from the system manager.

Record source categories:

From the individual, Army records and reports, documents from the civilian school or industry training agency.

Exemptions claimed for the system:

None.

A0635-5 TAPC

System name:

Separation Transaction Control/Records Transfer System (January 8, 2001, 66 FR 1314).

Change

System identifier:

Delete entry and replace with ‘A0635-5 AHRC’.

* * * * *

A0635-5 AHRC

System name:

Separation Transaction Control/Records Transfer System.

System location:

Commander, U.S. Army Human Resources Command, Retirements and Separations Branch, 200 Stovall Street, Alexandria, VA 22332-0478;

U.S. Army Enlisted Records and Evaluation Center, Fort Benjamin Harrison, IN 46249-5301;

U.S. Army Human Resources Command, 9700 Page Avenue, St. Louis, MO 63132-5200.

Categories of individuals covered by the system:

Active duty enlisted and reserve personnel separated from military service (excluding active duty for military for training) and all personnel immediately re-enlisting after separation.

Categories of records in the system:

Name, Social Security Number, rank, eligibility for re-enlistment, character of separation, program designator, date and location of separation, re-enlistment, moral waiver and specialty, and DD Form 214, Certificate of Discharge of Release from Active Duty.

Authority for maintenance of the system:

10 U.S.C. 3013, Secretary of the Army; Army Regulation 601-280, Army Retention Program; Army Regulation 635-200, Enlisted Personnel; and E.O. 9397 (SSN).

Purpose(s):

To monitor separations of active duty and reserve personnel as a means of controlling strength and record accountability, and re-enlistment processing, and to ensure separation documents are filed in official military record.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Magnetic tapes/discs and electronic storage media.

Retrievability:

By name and/or Social Security Number.

Safeguards:

Records are protected by physical security devices, guards, computer software and hardware safeguard features, and personnel clearances.

Retention and disposal:

Separation records and related documents are maintained for six months and then destroyed.

Reenlistment eligibility records are forwarded for incorporation into the military personnel jacket, destroy upon reenlistment of individual.

Military Personnel Transition Point Processing Master File records are retained in current file area, treat as permanent until National Archives and Records Administration disposition is approved.

System manager(s) and address:

Commander, U.S. Army Human Resources Command, Retirements and Separations Branch, 200 Stovall Street, Alexandria, VA 22332-0478.

Notification procedure:

Individuals seeking to determine if information about themselves is contained in this record system should address written inquiries to the Commander, U.S. Army Human Resources Command, Retirements and Separations Branch, 200 Stovall Street, Alexandria, VA 22332-0478.

Individual should provide the full name, Social Security Number, military status, and if separated, date of separation.

Record access procedures:

Individuals seeking access to records about themselves contained in this record system should address written inquiries to the Commander, U.S. Army Human Resources Command, Retirements and Separations Branch, 200 Stovall Street, Alexandria, VA 22332-0478.

Individual should provide the full name, Social Security Number, military status, and if separated, date of separation.

Contesting record procedures:

The Army's rules for accessing records, contesting contents and appealing initial agency determinations are contained in Army Regulation 340-21; 32 CFR part 505; or may be obtained from the system manager.

Record source categories:

From relevant Army records and reports.

Exemptions claimed for the system:

None.

A0635-40 TAPC

System name:

Temporary Disability Retirement Master List (TDRL) (January 8, 2001, 66 FR 1321).

Change

System identifier:

Delete entry and replace with ‘A0635-40 AHRC’.

* * * * *

A0635-40 AHRC

System name:

Temporary Disability Retirement Master List (TDRL).

System location:

Primary location: Chief, U.S. Army Physical Disability Agency, Walter Reed Army Medical Center, 6900 Georgia Avenue, NW., Building 7, Washington, DC 20307-5001.

Secondary location: Defense Finance and Accounting Service, 8899 East 56th Street, Indianapolis, IN 46249-5000.

Categories of individuals covered by the system:

Army personnel who are on temporary disability retirement.

Categories of records in the system:

File contains, Social Security Number, name, address, Department of Army special order number, percentage of disability, doctor code, re-examination date, date placed on TDRL, hospital code, travel code, Army component, pay termination code, requirement for board code, record control number, hospital name and address.

Authority for maintenance of the system:

10 U.S.C. 1376, Temporary Disability Retired Lists; 10 U.S.C. 3013, Secretary of the Army; Army Regulation 635-40, Physical Evaluation for Retention, Retirement of Separation; and E.O. 9397 (SSN).

Purpose(s):

To coordinate with medical treatment facilities for scheduling medical examinations; to issue travel orders for individual to report to medical treatment facility for annual medical examination; to determine individual's status by the end of the fifth year of being on the TDRL, i.e., whether individual is to be permanently retired for disability, or returned to duty.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Veterans Affairs to facilitate claims for veteran disability benefits.

The DoD ‘Blanket Routine Uses’ set forth at the beginning of the Army's compilation of systems of records notices also apply to this system.

Policies and practices for storing, retrieving, accessing, retaining, and disposing of records in the system:

Storage:

Paper records in medical treatment facilities; magnetic tape, disc.

Retrievability:

By name, Social Security Number and date.

Safeguards:

Access to all records is restricted to individuals having need therefore in the performance of duties. Automated media are further protected by authorized password for system, controlled access to operation rooms and controlled output distribution. Records are retained in secure offices within secure buildings.

Retention and disposal:

Information is maintained for 3 years after the member is found physically fit, separates or retires.

System manager(s) and address:

Chief, U.S. Army Physical Disability Agency, Walter Reed Army Medical Center, 6900 Georgia Avenue, NW., Building 7, Washington, DC 20307-5001.

Notification procedure:

Individuals seeking to determine if information about themselves is contained in this record system should address written inquiries to the Chief, U.S. Army Physical Disability Agency, Walter Reed Army Medical Center, 6900 Georgia Avenue, NW., Building 7, Washington, DC 20307-5001.

Individual should provide the full name, Social Security Number, current address and telephone number, and signature.

Inquiries are restricted to issues relating to the Temporary Disability Retirement List only; issues of pay must be made at the Defense Finance and Accounting Service, 8899 East 56th Street, Indianapolis, IN 46249-5000.

Record access procedures:

Individuals seeking access to records about themselves contained in this record system should address written inquiries to the Chief, U.S. Army Physical Disability Agency, Walter Reed Army Medical Center, 6900 Georgia Avenue, NW., Building 7, Washington, DC 20307-5001.

Individual should provide the full name, Social Security Number, current address and telephone number, and signature.

Inquiries are restricted to issues relating to the Temporary Disability Retirement List only; issues of pay must be made at the Defense Finance and Accounting Service, 8899 East 56th Street, Indianapolis, IN 46249-5000.

Contesting record procedures:

The Army's rules for accessing records, and for contesting contents and appealing initial agency determinations are contained in Army Regulation 340-21; 32 CFR part 505; or may be obtained from the system manager.

Record source categories:

From the individual, medical treatment facilities, and other Army records and reports.

Exemptions claimed for the system:

None.

A0635-200 TAPC

System name:

Separations: Administrative Board Proceedings (May 20, 2003, 68 FR 27539).

Change

System identifier:

Delete entry and replace with ‘A0635-200 AHRC’.

* * * * *

A0635-200 AHRC

System name:

Separations: Administrative Board Proceedings.

System location:

U.S. Army Human Resources Command, ATTN: AHRC-PDT-P, 200 Stovall Street Alexandria, VA 22332-0478. Segments exist at Major Army Commands and subordinate commands, field operating agencies, and activities exercising general courts-martial jurisdiction. Official mailing addresses are published as an appendix to the Army's compilation of record systems notices.

Categories of individuals covered by the system:

Military members on whom allegations of defective enlistment/agreement/fraudulent entry/alcohol or other drug abuse rehabilitation failure/unsatisfactory performance/misconduct/homosexuality under the provisions of Chapters 7, 9, 13, 14, or 15 of Army Regulation 635-200, Enlisted Personnel, result in administrative board proceedings.

Categories of records in the system:

Notice to service member of allegations on which proposed separation from the Army is based; supporting documentation; DA Form 2627, Records of Proceedings under Article 15, UCMJ; DD Form 493, Extract of Military Records of Previous Convictions; medical evaluations; military occupational specialty evaluation and aptitude scores; member's statements, testimony, witness statements, affidavits, rights waiver record; hearing transcript; board findings and recommendations for separation or retention; final action.

Authority for maintenance of the system:

10 U.S.C. 1169, Regular enlisted members; limitations on discharge, 10 U.S.C. 3013, Secretary of the Army; 42 U.S.C. 10606 et seq.; DoD Directive 1030.1, Victim and Witness Assistance; and E.O. 9397 (SSN).

Purpose(s):

Information is used by processing activities and the approval authority to determine if the member meets the requirements for retention or separation.

Routine uses of records maintained in the system including categories of users and the purposes of such uses:

In addition to those disclosures generally permitted under 5 U.S.C. 552a(b) of the Privacy Act, these records or information contained therein may specifically be disclosed outside the DoD as a routine use pursuant to 5 U.S.C. 552a(b)(3) as follows:

To victims and witnesses of a crime for purposes of providing information, consistent with the requirements of the Victim and Witness Assistance Program, regarding the investigation and disposition of an offense.

The DoD ‘Blanket Routine Uses’ set forth at the beginning of the Army's compilation of systems of records notices also apply to this system.

Policies and practices for storing, retrieving, accessing, retaining, and disposing of records in the system:

Storage:

Paper records in file folders and electronic storage media.

Retrievability:

By individual's surname or Social Security Number.

Safeguards:

Records are accessed only by designated persons having official need; in locked cabinets, in locked rooms within secure buildings.

Retention and disposal:

The original of board proceedings becomes a permanent part of the member's Official Military Personnel Record. When separation is ordered, a copy is sent to member's commander where it is retained for two years before being destroyed. When separation is not ordered, board proceedings are filed at the headquarters of the separation authority for two years, then destroyed. A copy of board proceedings in cases where the final authority is the U.S. Army Human Resources Command, pursuant to Army Regulation 635-200, is retained by that headquarters (AHRC-PDT) for one year following decision.

System manager(s) and address:

Commander, U.S. Army Human Resources Command, ATTN: AHRC-PDT-P, 200 Stovall Street, Alexandria, VA 22332-0478.

Notification procedure:

Individuals seeking to determine if information about themselves is contained in this record system should address written inquiries to the commander of the installation where administrative board convened or to the Commander, U.S. Army Human Resources Command, ATTN: AHRC-PDT-P, 200 Stovall Street, Alexandria, VA 22332-0478.

Individual should provide the full name, details concerning the proposed or actual separation action to include location and date, and signature.

Record access procedures:

If individual has been separated from the Army, address written inquiries to the National Personnel Records Center, General Services Administration, 9700 Page Avenue, St Louis, MO 63132-5200: proceedings will be part of the Official Military Personnel Record.

If member is on active duty, address written inquiries to the commander of the installation where administrative board convened.

Individual should provide the full name, details concerning the proposed or actual separation action to include location and date, and signature.

Contesting record procedures:

The Army's rules for accessing records, and for contesting contents and appealing initial agency determinations are contained in Army Regulation 340-21; 32 CFR part 505; or may be obtained from the system manager.

Record source categories:

From the individual; individual's commander; Army personnel, medical, and/or investigative records; witnesses; the Administrative Separation Board; federal, state, local, and/or foreign law enforcement agencies.

Exemptions claimed for the system:

None.

A0680-31a TAPC

System name:

Officer Personnel Management Information System (OPMIS) (June 29, 1999, 64 FR 34791).

Change

System identifier:

Delete entry and replace with ‘A0680-31a AHRC’.

* * * * *

A0680-31a AHRC

System name:

Officer Personnel Management Information System (OPMIS).

System location:

Commander, U.S. Army Human Resources Command, ATTN: AHRC-OPD-S, Information Management Officer, 200 Stovall Street, Alexandria, VA 22332-0414.

Categories of individuals covered by the system:

Individuals projected for entrance into the Active officer corps, active duty commissioned and warrant officers, officers in a separated or retired status, activated/mobilized U.S. Army Reserve and National Guard officers, and DoD civilians and military officers who serve as rating officials on the Officer Evaluation Reports (OERs) of Army officers.

Categories of records in the system:

The Total Army Personnel Data Base—Active Officer (TAPDB-AO) is the active officer component database of Total Army Personnel Data Base. It is comprised of approximately 100 data tables containing the official automated personnel records for active component Army officers. Data maintained in the Total Army Personnel Data Base—Active Officer includes Social Security Number, name, grade, personal and family information, service, security clearance, assignment history, strength management data, civilian and military education, awards, training, branch and occupational specialties/areas of concentration, mailing addresses, telephone numbers, facsimile numbers, email addresses, physical location, languages, career pattern, performance, command and promotion history, retirement/separation information and service agreement information. TAPDB-AO is updated in both on-line and batch mode from various source data bases and applications including the Standard Installation Division Personnel System (SIDPERS), the Total Officer Personnel Management Information System (TOPMIS), the Officer Evaluation Reporting System (OERS) and Accessions Management Information Systems (AMIS).

Accessions Management Information Systems (AMIS) contains selected officer personnel data from the Total Army Personnel Data Base—Active Officer, the date of entry on active duty, selected information regarding current location/school for pre-accessed officers, demographic data and assignment information on new officer accessions. It includes individual and mass record processing, erroneous record processing, report generation, Regular Army integration processing, Accessions Management Information Systems (AMIS) active record data, Officer Record Brief (ORB) information and strength data. Accessions Management Information Systems (AMIS) is used to manage Reserve Officer Training Corps (ROTC), U.S. Military Academy (USMA), Officer Candidate School (OCS), Judge Advocate General Corps (JAG) Recalls, Chaplains Corps, Warrant Officer and Surgeon General Reserve officer's accessions. Accessions Management Information Systems (AMIS) data is stored on the Total Army Personnel Data Base—Active Officer. Some users enter new accession data directly to the Total Army Personnel Data Base—Active Officer via Accessions Management Information Systems (AMIS). For Reserve Officer Training Corps (ROTC), and U.S. Military Academy (USMA) new accessions, data extracts are batch loaded to the Total Army Personnel Data Base—Active Officer annually.

Assignments and Training Selection for Reserve Officer Training Corps (ROTC) graduates contains selected information from the Total Army Personnel Data Base—Active Officer (TAPDB-AO), the cadet's preference statement for specialty (branch), duty and initial training; Reserve Forces duty or delay selection, Regular Army selection and branch selection.

The Officer Evaluation Reporting System (OERS) contains selected information from the Total Army Personnel Data Base—Active Officer (TAPDB-AO); selection board status; OER suspense indicator for action being taken to obtain missing or erroneous OERs; selected information for each OER; and the name, Social Security Number, and rating history of each individual, military and civilian, who has served as the senior rating official for an active duty Army officer.

Total Officer Personnel Management Information System (TOPMIS) provides the display and update of selected data on Total Army Personnel Data Base—Active Officer (TAPDB-AO) and comprises an extensive variety of automated officer personnel management functions. These functions include, officer personnel record display and update, requisition validation and processing, active officer strength management, Officer Distribution Plan (ODP) goaling management, officer asset reports, centralized command slate development, assignment stabilization break processing, electronic mail, Officer Record Brief (ORB) display and interactive telephonic/voice response retrieval of selected information from Total Army Personnel Data Base—Active Officer (TAPDB-AO).

Reserve Officer Training Corps (ROTC) Instructor File contains selected information from the Total Army Personnel Data Base—Active Officer (TAPDB-AO) and the following information pertaining to ROTC instructors; ROTC detachment, duty station, date assigned to ROTC detachment, date projected to be reassigned. This information is maintained in a local database by the Cadet Command Distribution Account Manager in Officer Distribution Division, OPMD, AHRC-OPD-O.

Advanced Civil Schools Management Information System (ACSMIS) contains selected information from the Total Army Personnel Data Base—Active Officer and the following information concerning commissioned and warrant officer personnel currently participating, or who have previously participated, in one of the following: Army sponsored college degree completion program, Training With Industry (TWI) program, special fellowship/scholarship programs, or the fully funded degree program. Data maintained also includes schooling start/stop dates, degree level, educational discipline and Army duty positions.

Army Education Requirements System (AERS) contains selected information from the Total Army Personnel Data Base—Active Officer (TAPDB-AO) for officer and warrant officer personnel who are serving or are projected to serve in an AERS approved position requiring graduate level education.

U.S. Army Military Academy (USMA) Potential Instructor File contains selected information from the OMF and the following information pertaining to previous, current, and potential instructors for the USMA teaching staff; academic department and projected availability for USMA instructor duty. This information is maintained in a local database by the USMA Distribution Account Manager in Officer Distribution Division, OPMD, AHRC-OPD-O.

Authority for maintenance of the system:

5 U.S.C. 301, Departmental Regulations; 10 U.S.C. 3013, Secretary of the Army; and E.O. 9397 (SSN).

Purpose(s):

Information is used for personnel management strength accounting, manpower management, accessioning and determining basic entry specialty (branch) and initial duty assignments; tracking Officer Evaluation Reports, the rating history of senior rating official's rating history on individual OERs producing reports on active duty officers who have served as senior rating officials; managing instructor population at ROTC detachments and USMA; tracking information relating to the Army Degree Completion Civil School Program; transmitting necessary assignment instructions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Social Security Administration to verify Social Security Numbers.

To the Smithsonian Institution (The National Museum of American History): Copy of the U.S. Army Active Duty Register, for historical research purposes (not authorized for public display).

The DoD ‘Blanket Routine Uses’ set forth at the beginning of the Army's compilation of systems of records notices also apply to this system.

Policies and practices for storing, retrieving, accessing, retaining, and disposing of records in the system:

Storage:

Electronically on computer magnetic tapes and disc.

Retrievability:

By Social Security Number, name, or other individual identifying characteristics.

Safeguards:

Physical security devices, guards, computer hardware and software features, and personnel clearances. Automated media and information are protected by authorized user ids, passwords for the system, a tiered system of security for access to officer data provided via Interactive Voice Response Systems based on the sensitivity of the data items provided, encryption of data transmitted via networks, controlled access to operator rooms and controlled output distribution.

Retention and disposal:

Records are retained on the active TAPDB-AO files for 4 months after separation. Historical TAPDB-AO records are retained dating back to FY 1970. Accessions in AMIS are retained on active file until effective date of accession and are then placed on a history file for a period of 6 months. Records in the ROTC Graduate Assignment and Training Selection File are retained for approximately 400 days after the file is created (Approximately December each year). Historic files for the OER system are kept for the life of the system. All other records are retained for active duty only until the individual is released from active duty and then destroyed. There are still hard copies in their Official Military Personnel Files (OMPFs).

System manager(s) and address:

Commander, U.S. Army Human Resources Command, ATTN: AHRC-OPD-S, Information Management Officer, 200 Stovall Street, Alexandria, VA 22332-0414.

Notification procedure:

Individuals seeking to determine whether information about themselves is contained in this system should address written inquiries to the Commander, U.S. Army Human Resources Command, ATTN: AHRC-OPD-S, Information Management Officer, 200 Stovall Street, Alexandria, VA 22332-0414.

Individual should provide the full name, Social Security Number, current address, and identify the specific category of record involved, whether awaiting active duty, active retired, or separated and give return address.

Blanket requests for information from this consolidated system will not be accepted. If awaiting active duty, specify the date thereof; if separated, individual must state date of separation.

Record access procedures:

Individuals seeking access to information about themselves contained in this system should address written inquiries to the Commander, U.S. Army Human Resources Command, ATTN: AHRC-OPD-S, Information Management Officer, 200 Stovall Street, Alexandria, VA 22332-0414.

Individual should provide the full name, Social Security Number, current address, and identify the specific category of record involved, whether awaiting active duty, active retired, or separated and give return address.

Blanket requests for information from this consolidated system will not be accepted. If awaiting active duty, specify the date thereof; if separated, individual must state date of separation.

Selected data from the Total Army Personnel Data Base—Active Officer is also accessible to records subjects through an Interactive Voice Response Systems (IVRS). Access to the data made available through the IVRS is controlled by a tiered security system, which is based on the sensitivity of the data being accessed.

Contesting record procedures:

The Army's rules for accessing records, and for contesting contents and appealing initial agency determinations are contained in Army Regulation 340-21; 32 CFR part 505; or may be obtained from the system manager.

Record source categories:

From the individual, civilian Educational Institutions, Army records and reports, other Federal, state, and local agencies and departments.

Exemptions claimed for the system:

None.

A0635-5 TAPC

System name:

Separation Transaction Control/Records Transfer System (January 8, 2001, 66 FR 1314).

System location:

Commander, U.S. Army Human Resources Command, Retirements and Separations Branch, 200 Stovall Street, Alexandria, VA 22332-0478;

U.S. Army Enlisted Records and Evaluation Center, Fort Benjamin Harrison, IN 46249-5301;

U.S. Army Reserve Components and Personnel Center, 9700 Page Avenue, St. Louis, MO 63132-5200.

Categories of individuals covered by the system:

Active duty enlisted and reserve personnel separated from military service (excluding active duty for military for training) and all personnel immediately re-enlisting after separation.

Categories of records in the system:

Name, Social Security Number, rank, eligibility for re-enlistment, character of separation, program designator, date and location of separation, reenlistment, moral waiver and specialty, and DD Form 214, Certificate of Discharge of Release from Active Duty.

Authority for maintenance of the system:

10 U.S.C. 3013, Secretary of the Army; Army Regulation 601-280, Army Retention Program; Army Regulation 635-200, Enlisted Personnel; and E.O. 9397 (SSN).

Purpose(s):

To monitor separations of active duty and reserve personnel as a means of controlling strength and record accountability, and re-enlistment processing, and to ensure separation documents are filed in official military record.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Magnetic tapes/discs and electronic storage media.

Retrievability:

By name and/or Social Security Number.

Safeguards:

Records are protected by physical security devices, guards, computer software and hardware safeguard features, and personnel clearances.

Retention and disposal:

Separation records and related documents are maintained for six months and then destroyed.

Reenlistment eligibility records are forwarded for incorporation into the military personnel jacket, destroy upon reenlistment of individual.

Military Personnel Transition Point Processing Master File records are retained in current file area, treat as permanent until National Archives and Records Administration disposition is approved.

System manager(s) and address:

Commander, U.S. Army Human Resources Command, Retirements and Separations Branch, 200 Stovall Street, Alexandria, VA 22332-0478.

Notification procedure:

Individuals seeking to determine if information about themselves is contained in this record system should address written inquiries to the Commander, U.S. Army Human Resources Command, Retirements and Separations Branch, 200 Stovall Street, Alexandria, VA 22332-0478.

Individual should provide the full name, Social Security Number, military status, and if separated, date of separation.

Record access procedures:

Individuals seeking access to records about themselves contained in this record system should address written inquiries to the Commander, U.S. Army Human Resources Command, Retirements and Separations Branch, 200 Stovall Street, Alexandria, VA 22332-0478.

Individual should provide the full name, Social Security Number, military status, and if separated, date of separation.

Contesting record procedures:

The Army's rules for accessing records, contesting contents and appealing initial agency determinations are contained in Army Regulation 340-21; 32 CFR part 505; or may be obtained from the system manager.

Record source categories:

From relevant Army records and reports.

Exemptions claimed for the system:

None.

[FR Doc. 04-18875 Filed 8-17-04; 8:45 am]

BILLING CODE 5001-06-P